SUSQUEHANNA RIVER BASIN COMMISSION

Public Hearing

AGENCY: Susquehanna River Basin Commission.

ACTION: Notice.

SUMMARY: The Susquehanna River Basin Commission will hold a public hearing on February 1, 2018, in Harrisburg, Pennsylvania. At this public hearing, the Commission will hear testimony on the projects listed in the Supplementary Information section of this notice. Such projects are intended to be scheduled for Commission action at its next business meeting, tentatively scheduled for March 8, 2018, which will be noticed separately. The public should take note that this public hearing will be the only opportunity to offer oral comment to the Commission for the listed projects. The deadline for the submission of written comments is February 12, 2018.

DATES: The public hearing will convene on February 1, 2018, at 2:30 p.m. The public hearing will end at 5:00 p.m. or at the conclusion of public testimony, whichever is sooner. The deadline for the submission of written comments is February 12, 2018.

ADDRESSES: The public hearing will be conducted at the Pennsylvania State Capitol, Room 8E-B, East Wing, Commonwealth Avenue, Harrisburg, PA.

FOR FURTHER INFORMATION CONTACT: Jason Oyler, General Counsel, telephone: (717) 238-0423, ext. 1312; fax: (717) 238-2436. Information concerning the applications for these projects is available at the SRBC Water Application and Approval Viewer at http://mdw.srbc.net/waav. Additional supporting documents are available to inspect and copy in accordance with the Commission's Access to Records Policy at www.srbc.net/pubinfo/docs/2009-02_Access_to_Records_Policy_20140115.pdf.

SUPPLEMENTARY INFORMATION: The public hearing will cover the following projects:

Projects Scheduled for Action

1. Project Sponsor and Facility: Brymac, Inc. dba Mountain View Country Club (Pond ¾), Harris Township, Centre County, Pa. Application for surface water withdrawal of up to 0.240 mgd (peak day).

2. Project Sponsor and Facility: Cabot Oil & Gas Corporation (East Branch Tunkhannock Creek), Lenox Township, Susquehanna County, Pa. Application for surface water withdrawal of up to 1.000 mgd (peak day).

3. Project Sponsor and Facility: Dillsburg Area Authority, Franklin Township, York County, Pa. Modification to increase groundwater withdrawal by an additional 0.099 mgd (30-day average), for a total groundwater withdrawal of up to 0.200 mgd (30-day average) from Well 3 (Docket No. 20081207).

4. Project Sponsor and Facility: Lycoming Engines, a Division of Avco Corporation, City of Williamsport, Lycoming County, Pa. Application for renewal of groundwater withdrawal of up to 0.980 mgd (30-day average) for groundwater remediation system (Docket No. 19880203).

5. Project Sponsor: Mayapple Real Estate Holdings. Project Facility: Mayapple Golf Links, South Middleton Township, Cumberland County, Pa. Application for consumptive use of up to 0.200 mgd (peak day).

6. Project Sponsor: Mayapple Real Estate Holdings. Project Facility: Mayapple Golf Links, South Middleton Township, Cumberland County, Pa. Application for groundwater withdrawal of up to 0.099 mgd (30-day average) from Well 1.

7. Project Sponsor and Facility: Repsol Oil & Gas USA, LLC (Fall Brook), Ward Township, Tioga County, Pa. Application for renewal of surface water withdrawal of up to 0.999 mgd (peak day) (Docket No. 20140313).

8. Project Sponsor and Facility: Repsol Oil & Gas USA, LLC (Fellows Creek), Ward Township, Tioga County, Pa. Application for renewal of surface water withdrawal of up to 0.999 mgd (Docket No. 20140314).

9. Project Sponsor and Facility: Seneca Resources Corporation (Arnot No. 5 Mine Discharge), Bloss Township, Tioga County, Pa. Application for renewal of surface water withdrawal of up to 0.499 mgd (peak day) (Docket No. 20140311).

10. Project Sponsor and Facility: SWEPI LP (Susquehanna River), Sheshequin Township, Bradford County, Pa. Application for renewal of surface water withdrawal of up to 0.850 mgd (peak day) (Docket No. 20140312).

11. Project Sponsor and Facility: SWN Production Company, LLC (Susquehanna River), Great Bend Township, Susquehanna County, Pa. Application for renewal of surface water withdrawal of up to 2.500 mgd (peak day) (Docket No. 20140302).

12. Project Sponsor and Facility: XTO Energy Inc. (Little Muncy Creek), Moreland Township, Lycoming County, Pa. Application for renewal of surface water withdrawal of up to 0.249 mgd (peak day) (Docket No. 20140315).

Opportunity To Appear and Comment

Interested parties may appear at the hearing to offer comments to the Commission on any project listed above. The presiding officer reserves the right to limit oral statements in the interest of time and to otherwise control the course of the hearing. Guidelines for the public hearing will be posted on the Commission's website, www.srbc.net, prior to the hearing for review. The presiding officer reserves the right to modify or supplement such guidelines at the hearing. Written comments on any project listed above may also be mailed to Mr. Jason Oyler, General Counsel, Susquehanna River Basin Commission, 4423 North Front Street, Harrisburg, Pa. 17110-1788, or submitted electronically through www.srbc.net/pubinfo/publicparticipation.htm. Comments mailed or electronically submitted must be received by the Commission on or before February 12, 2018, to be considered.

Authority: Pub. L. 91-575, 84 Stat. 1509 et seq., 18 CFR parts 806, 807, and 808.

Dated: December 28, 2017.
Stephanie L. Richardson,
Secretary to the Commission.

[FR Doc. 2017-28426 Filed 1-2-18; 8:45 am]

BILLING CODE 7040-01-P